DEPARTMENT OF THE INTERIOR

Bureau of Indian Affairs

[212A2100DD/AAKC001030/A0A501010.999900 253G]

Advisory Board for Exceptional Children

AGENCY: Bureau of Indian Affairs, Interior.

ACTION: Notice of meeting.

SUMMARY: The Bureau of Indian Education (BIE) is announcing that the Advisory Board for Exceptional Children will hold an online meeting. The purpose of the meeting is to meet the mandates of the Individuals with Disabilities Education Act of 2004 (IDEA) for Indian children with disabilities. Due to the COVID-19 pandemic and for the safety of all individuals, it will be necessary to conduct an online meeting.

DATES: The BIE Advisory Board meeting will be held Wednesday, January 27, 2021 from 8 a.m. to 4 p.m. Mountain Standard Time (MST) and Thursday, January 28, 2021 from 8 a.m. to 4 p.m. Mountain Standard Time (MST).

ADDRESSES: All Advisory Board activities and meetings will be conducted online. See the SUPPLEMENTARY INFORMATION section of this notice for information on how to join the meeting. Public comments can be emailed to the DFO at Jennifer.davis@indianaffairs.gov; or faxed to (602) 265-0293 Attention: Jennifer Davis, DFO; or mailed or hand delivered to the Bureau of Indian Education, Attention: Jennifer Davis, DFO, 2600 N Central Ave., Suite 800, Phoenix, AZ 85004.

FOR FURTHER INFORMATION CONTACT: Jennifer Davis, Designated Federal Officer, Bureau of Indian Education, 2600 N Central Ave., Suite 800, Phoenix, Arizona 85004, Jennifer.davis@indianaffairs.gov, or (202) 860-7845 or (602) 240-8597.

SUPPLEMENTARY INFORMATION: In accordance with the Federal Advisory Committee Act, the BIE is announcing the Advisory Board will hold its next meeting online. The Advisory Board was established under the Individuals with Disabilities Act of 2004 (20 U.S.C. 1400 et seq.) to advise the Secretary of the Interior, through the Assistant Secretary-Indian Affairs, on the needs of Indian children with disabilities. The meeting is open to the public.

The following items will be on the agenda:

• Update Reports regarding special education from: BIE Central Office, BIE/Division of Performance and Accountability (DPA), BIE/Associate Deputy Directors for Tribally Controlled Schools, Bureau Operated Schools and Navajo Region Schools.

• The BIE's Office of Sovereignty in Indian Education—will provide an overview and update of the Tribal Education Department (TED) grant program.

• The Chief Academic Office—will provide an overview and Update of the BIE's Standards, Assessments, and Accountability System

• Public Commenting Sessions will be provided during both meeting days.

○ On Wednesday, January 27, 2021 from 11 a.m. to 11:30 a.m. MST, public comments can be provided via webinar or telephone conference call. Please use the same online access codes as listed below for the January 27th meeting.

○ On Thursday, January 28, 2021 from 1 p.m. to 1:30 p.m. MST, public comments can be provided via webinar or telephone conference call. Please use the same online access codes as listed below for the January 28th meeting.

○ Public comments can be emailed to the DFO at Jennifer.davis@indianaffairs.gov; or faxed to (602) 265-0293 Attention: Jennifer Davis, DFO; or mailed or hand delivered to the Bureau of Indian Education, Attention: Jennifer Davis, DFO, 2600 N Central Ave., Suite 800, Phoenix, Arizona 85004.

To Access the January 27, 2021 Meeting

You can join the meeting on January 27, 2021 through any of the following means:

• From your computer, tablet or smartphone using https://global.gotomeeting.com/join/172073373.

• Using your phone in the United States, by dialing +1 (669) 224-3412 and using Access Code: 172-073-373.

• From a video-conferencing room or system by dialing or typing in: 67.217.95.2 or inroomlink.goto.com, Meeting ID: 172 073 373, or by dialing directly: 172073373@67.217.95.2 or 67.217.95.2##172073373. If you are new to GoToMeeting you can get the app by using this link: https://global.gotomeeting.com/install/172073373.

To Access the January 28, 2021 Meeting

You can join the meeting on January 28, 2021 through any of the following means:

• From your computer, tablet or smartphone using https://global.gotomeeting.com/join/491120013.

• Using your phone in the United States, by dialing +1 (646) 749-3112 and using Access Code: 491-120-013.

• From a video-conferencing room or system by dialing in or type: 67.217.95.2 or inroomlink.goto.com, Meeting ID: 491 120 013, or dialing directly: 491120013@67.217.95.2 or 67.217.95.2##491120013. If you are new to GoToMeeting you can get the app by using this link: https://global.gotomeeting.com/install/491120013.

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 5; 20 U.S.C. 1400 et seq.

Tara Sweeney,
Assistant Secretary—Indian Affairs.

[FR Doc. 2020-29322 Filed 1-6-21; 8:45 am]

BILLING CODE 4337-15-P